DEPARTMENT OF TRANSPORTATION

Federal Aviation Administration

14 CFR Part 39

[Docket No. FAA-2023-0163; Project Identifier AD-2022-01380-T; Amendment 39-22468; AD 2023-12-10]

RIN 2120-AA64

Airworthiness Directives; The Boeing Company Airplanes

AGENCY: Federal Aviation Administration (FAA), DOT.

ACTION: Final rule.

SUMMARY: The FAA is superseding Airworthiness Directive (AD) 2022-02-16, which applied to all The Boeing Company Model 787-8, 787-9, and 787-10 airplanes. AD 2022-02-16 required revising the limitations and operating procedures sections of the existing airplane flight manual (AFM) to incorporate limitations prohibiting certain landings and the use of certain minimum equipment list (MEL) items, and to incorporate operating procedures for calculating landing distances, when in the presence of interference from wireless broadband operations in the 3.7-3.98 GHz frequency band (5G C-Band) as identified by Notices to Air Missions (NOTAMs). Since the FAA issued AD 2022-02-16, the FAA determined that additional limitations are needed due to the continued deployment of new 5G C-Band stations whose signals are expected to cover most of the contiguous United States at transmission frequencies between 3.7-3.98 GHz. This AD requires revising the limitations section of the existing AFM to incorporate limitations prohibiting certain landings and the use of certain MEL items, and retains the operating procedures from AD 2022-02-16 for calculating landing distances, due to the presence of 5G C-Band interference. The FAA is issuing this AD to address the unsafe condition on these products.

DATES: This AD is effective June 21, 2023.

ADDRESSES: AD Docket: You may examine the AD docket at regulations.gov under Docket No. FAA-2023-0163; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Brett Portwood, Continued Operational Safety Technical Advisor, COS Program Management Section, Operational Safety Branch, FAA, 3960 Paramount Boulevard, Lakewood, CA 90712-4137; phone: 817-222-5390; email: operationalsafety@faa.gov.

SUPPLEMENTARY INFORMATION:

Background

The FAA issued a notice of proposed rulemaking (NPRM) to amend 14 CFR part 39 to supersede AD 2022-02-16, Amendment 39-21913 (87 FR 2692, January 19, 2022) (AD 2022-02-16). AD 2022-02-16 applied to all The Boeing Company (Boeing) Model 787-8, 787-9, and 787-10 airplanes. The NPRM published in the Federal Register on May 3, 2023 (88 FR 27716).

The NPRM was prompted by a determination that radio altimeters cannot be relied upon to perform their intended function if they experience 5G C-Band interference, and a determination that, during landings, as a result of this interference, certain airplane systems may not properly transition from AIR to GROUND mode when landing on certain runways, resulting in a longer landing distance than normal due to the effect on thrust reverser deployment, speedbrake deployment, and increased idle thrust.

In the NPRM, the FAA proposed to retain the AFM revisions required by AD 2022-02-16 until June 30, 2023. On or before June 30, 2023, the FAA proposed to require replacing those AFM revisions with limitations prohibiting the same landings and use of certain MEL items at all airports for non-radio altimeter tolerant airplanes. For radio altimeter tolerant airplanes, the FAA proposed to allow the prohibited operations at 5G C-Band mitigated airports (5G CMAs) as identified in an FAA Domestic Notice. Lastly, the FAA proposed to retain the operating procedures from AD 2022-02-16 for calculating landing distances. The FAA proposed this AD to address degraded deceleration performance and longer landing distance, which could lead to a runway excursion.

Discussion of Final Airworthiness Directive

Comments

The FAA provided the public with an opportunity to comment on the proposed AD and received comments from five commenters. The following presents the comments received on the NPRM and the FAA's response to each comment.

Support for NPRM

Boeing and the Air Line Pilots Association, International (ALPA), supported the NPRM without change.

The supportive comments from ALPA included additional viewpoints without a suggestion specific to the AD or a request the FAA can act on. These comments are outside the scope of this final rule.

Request To Revise AFM Limitations

Comment summary: All Nippon Airways Co., Ltd. (All Nippon), requested the FAA revise paragraph (h)(2) of the proposed AD to refer to the new landing distances instead of HYD PRESS L+R failure distances, based on the new landing distance tables established by Boeing.

FAA response: The FAA has not received or reviewed a new landing distance table as described by the commenter. Anyone may propose alternative data to address the unsafe condition under the AMOC procedures referenced in paragraph (k) of this AD.

Request for Additional AMOC Relief

Comment summary: All Nippon requested that the FAA revise the proposed AD to allow AMOCs approved for AD 2023-10-02, Amendment 39-22438 (88 FR 34065, May 26, 2023) (AD 2023-10-02) as AMOCs for the new AFM revisions for radio altimeter tolerant airplanes specified in paragraph (j) of the proposed AD.

FAA response: The FAA does not agree. An airplane that is a radio altimeter tolerant airplane for purposes of AD 2023-10-02 will also be a radio altimeter tolerant airplane for purposes of this AD. However, because the hazards mitigated by AD 2023-10-02 are separate and distinct from the hazards mitigated by this AD, the FAA has determined that AMOCs approved for compliance with AD 2023-10-02 may not always be appropriate to address the unsafe condition specified in this AD. For this reason, operators with an approved AMOC for AD 2023-10-02 will need to request approval of it as an AMOC for compliance with this AD.

Request To Extend Compliance Time

Comment summary: All Nippon and American Airlines expressed concern regarding the compliance time for the proposed actions and requested the FAA revise the AD to provide a minimum of 3 to 4 weeks from the effective date of the AD.

FAA response: The FAA understands the commenters' concerns and made every effort to publish this AD as soon as possible. After refraining from operating at their FCC-authorized levels for a year and a half, wireless companies are now able to operate at higher levels, yet still not at the levels authorized. Specifically, wireless companies expect to operate their networks in urban areas with minimal restrictions due to the completion of retrofits. Additionally, the FAA anticipates 19 additional telecommunication companies will begin transmitting in the C-Band after June 30, 2023. Although the FAA continues to work with the companies that intend to transmit in the 3.7-3.98-GHz band near 5G CMAs, the FAA has no agreement with those companies to provide the FAA with tower locations and other information necessary to support the current NOTAM/AMOC process. Therefore, the FAA will not be able to extend the compliance date beyond June 30, 2023.

Request for Clarification of Domestic Notices and 5G CMA List

Comment summary: Virgin Atlantic requested clarification on how to access Domestic Notices, as well as the mechanism to know when an airport is no longer on the 5G CMA list.

FAA response: The Domestic Notice referenced in this AD can be found at https://www.faa.gov/air_traffic/publications/domesticnotices/domestic_gen.html. The FAA considers this 5G CMA list permanent based upon the voluntary agreements in place with the telecommunication companies. In the event an airport from the 5G CMA list needs to be removed, the FAA will issue a NOTAM until a more permanent solution is put in place.

Conclusion

The FAA reviewed the relevant data, considered any comments received, and determined that air safety requires adopting this AD as proposed. Accordingly, the FAA is issuing this AD to address the unsafe condition on these products. This AD is adopted as proposed in the NPRM.

Interim Action

The FAA considers this AD to be an interim action. Once the Technical Standard Order (TSO) standard for radio altimeters is established, which will follow the existing international technical consensus on the establishment of the minimum operational performance standards (MOPS), the FAA anticipates that the MOPS will be incorporated into the TSO. Once a new radio altimeter TSO is developed, approved, and available, the FAA might consider additional rulemaking.

Effective Date

Section 553(d) of the Administrative Procedure Act (APA) (5 U.S.C. 551 et seq.) requires publication of a rule not less than 30 days before its effective date. However, section 553(d) authorizes agencies to make rules effective in less than 30 days when the agency finds “good cause.” Radio altimeters cannot be relied upon to perform their intended function if they experience interference from wireless broadband operations in the 5G C-Band. During landings, as a result of this interference, certain airplane systems may not properly transition from AIR to GROUND mode when landing on certain runways, resulting in a longer landing distance than normal due to the effect on thrust reverser deployment, speedbrake deployment, and increased idle thrust, which could lead to a runway excursion. To address this unsafe condition, the actions required by this AD must be accomplished before the compliance date of June 30, 2023. The FAA based this date on the changes to the 5G C-Band environment beginning on July 1, 2023. These changes include increased wireless broadband deployment and transmissions closer to the parameters authorized by the FCC. The earlier operators learn of the requirements in this AD, the earlier they can take action to ensure compliance. An effective date less than 30 days would ensure the AD is codified earlier, thereby increasing awareness of its requirements. Therefore, the FAA finds that good cause exists pursuant to 5 U.S.C. 553(d) for making this amendment immediately effective.

Costs of Compliance

The cost information below describes the costs to change the AFM. Although this AD largely maintains the AFM limitations currently required by AD 2022-02-16, the FAA acknowledges that this AD may also impose costs on some aircraft operators from having to change their conduct to comply with the amended AFM. However, the FAA lacks the data necessary to quantify the costs associated with aircraft operators changing their conduct.

The FAA estimates that this AD affects 145 airplanes of U.S. registry. The FAA estimates the following costs to comply with this AD:

Estimated Costs for Required Actions
Action | Labor cost | Parts cost | Cost per product | Cost on U.S. operators
AFM revision (retained action from AD 2022-02-16) | 1 work-hour × $85 ¹ per hour = $85 | $0 | $85 | $12,325
New AFM revision (new required action) | 1 work-hour × $85 per hour = $85 | 0 | 85 | ² 12,325
¹ The labor rate of $85 per hour is the average wage rate for an aviation mechanic.
² The estimated cost for this revision would not constitute a significant economic impact (even for small entities) because $85 is a minimal cost compared to the regular costs of maintaining and operating a Model 787-8, 787-9, or 787-10 transport category airplane.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-02-16, Amendment 39-21913 (87 FR 2692, January 19, 2022), and

b. Adding the following new AD:

2023-12-10 The Boeing Company: Amendment 39-22468; Docket No. FAA-2023-0163; Project Identifier AD-2022-01380-T.

(a) Effective Date

This airworthiness directive (AD) is effective June 21, 2023.

(b) Affected ADs

This AD replaces AD 2022-02-16, Amendment 39-21913 (87 FR 2692, January 19, 2022) (AD 2022-02-16).

(c) Applicability

This AD applies to all The Boeing Company Model 787-8, 787-9, and 787-10 airplanes, certificated in any category.

(d) Subject

Air Transport Association (ATA) of America Code 34, Navigation.

(e) Unsafe Condition

This AD was prompted by a determination that radio altimeters cannot be relied upon to perform their intended function if they experience interference from wireless broadband operations in the 3.7-3.98 GHz frequency band (5G C-Band), and a determination that, during landings, as a result of this interference, certain airplane systems may not properly transition from AIR to GROUND mode when landing on certain runways, resulting in a longer landing distance than normal due to the effect on thrust reverser deployment, speedbrake deployment, and increased idle thrust. The FAA is issuing this AD to address degraded deceleration performance and longer landing distance, which could lead to a runway excursion.

(f) Compliance

Comply with this AD within the compliance times specified, unless already done.

(g) Definitions

(1) For purposes of this AD, a “5G C-Band mitigated airport” (5G CMA) is an airport at which the telecommunications companies have agreed to voluntarily limit their 5G deployment at the request of the FAA, as identified by an FAA Domestic Notice.

(2) For purposes of this AD, a “radio altimeter tolerant airplane” is one for which the radio altimeter, as installed, demonstrates the tolerances specified in paragraphs (g)(2)(i) and (ii) of this AD, using a method approved by the FAA.

(i) Tolerance to radio altimeter interference, for the fundamental emissions (3.7-3.98 GHz), at or above the power spectral density (PSD) curve threshold specified in figure 1 to paragraph (g)(2)(i) of this AD.

BILLING CODE 4910-13-P

Figure 1 to paragraph (g)(2)(i)—Fundamental Effective Isotropic PSD at Outside Interface of Aircraft Antenna

(ii) Tolerance to radio altimeter interference, for the spurious emissions (4.2-4.4 GHz), at or above the PSD curve threshold specified in figure 2 to paragraph (g)(2)(ii) of this AD.

Figure 2 to paragraph (g)(2)(ii)—Spurious Effective Isotropic PSD at Outside Interface of Aircraft Antenna

(3) For purposes of this AD, a “non-radio altimeter tolerant airplane” is one for which the radio altimeter, as installed, does not demonstrate the tolerances specified in paragraphs (g)(2)(i) and (ii) of this AD.

(4) Runway condition codes are defined in figure 3 to paragraph (g)(4) of this AD.

Figure 3 to paragraph (g)(4)—Runway Condition Codes

(h) Retained Airplane Flight Manual (AFM) Revision

This paragraph restates the requirements of paragraph (h) of AD 2022-02-16.

(1) Within 2 days after January 19, 2022 (the effective date of AD 2022-02-16): Revise the Limitations Section of the existing AFM to include the information specified in figure 4 to paragraph (h)(1) of this AD. This may be done by inserting a copy of figure 4 to paragraph (h)(1) of this AD into the existing AFM.

Figure 4 to paragraph (h)(1)—AFM Limitations Revisions

(2) Within 2 days after January 19, 2022 (the effective date of AD 2022-02-16): Revise the Operating Procedures Section of the existing AFM to include the information specified in figure 5 to paragraph (h)(2) of this AD. This may be done by inserting a copy of figure 5 to paragraph (h)(2) of this AD into the existing AFM.

Figure 5 to paragraph (h)(2)—AFM Operating Procedures Revision

(i) New Requirement: AFM Revision for Non-Radio Altimeter Tolerant Airplanes

For non-radio altimeter tolerant airplanes, do the actions specified in paragraphs (i)(1) and (2) of this AD.

(1) On or before June 30, 2023, revise the Limitations Section of the existing AFM to include the information specified in figure 6 to paragraph (i) of this AD. This may be done by inserting a copy of figure 6 to paragraph (i) of this AD into the existing AFM. Incorporating the AFM revision required by this paragraph terminates the AFM revision required by paragraph (h)(1) of this AD.

(2) Before further flight after incorporating the limitations specified in figure 6 to paragraph (i) of this AD, remove the AFM revision required by paragraph (h)(1) of this AD.

Figure 6 to paragraph (i)—AFM Revision for Non-Radio Altimeter Tolerant Airplanes

(j) New Requirement: AFM Revision for Radio Altimeter Tolerant Airplanes

For radio altimeter tolerant airplanes, do the actions specified in paragraphs (j)(1) and (2) of this AD.

(1) On or before June 30, 2023, revise the Limitations Section of the existing AFM to include the information specified in figure 7 to paragraph (j) of this AD. This may be done by inserting a copy of figure 7 to paragraph (j) of this AD into the existing AFM. Incorporating the AFM revision required by this paragraph terminates the AFM revision required by paragraph (h)(1) of this AD.

(2) Before further flight after incorporating the limitations specified in figure 7 to paragraph (j) of this AD, remove the AFM revision required by paragraph (h)(1) of this AD.

Figure 7 to paragraph (j)—AFM Revision for Radio Altimeter Tolerant Airplanes

(k) Alternative Methods of Compliance (AMOCs)

(1) The Manager, Operational Safety Branch, FAA, has the authority to approve AMOCs for this AD, if requested using the procedures found in 14 CFR 39.19. In accordance with 14 CFR 39.19, send your request to your principal inspector or responsible Flight Standards Office, as appropriate. If sending information directly to the manager of the Operational Safety Branch, send it to the attention of the person identified in paragraph (l) of this AD. Information may be emailed to: AMOC@faa.gov.

(2) Before using any approved AMOC, notify your appropriate principal inspector, or lacking a principal inspector, the manager of the responsible Flight Standards Office.

(3) AMOCs approved for AD 2021-23-12, Amendment 39-21810 (86 FR 69984, December 9, 2021), providing relief for specific radio altimeter installations are approved as AMOCs for the requirements specified in paragraph (h) of this AD until June 30, 2023.

(l) Related Information

For more information about this AD, contact Brett Portwood, Continued Operational Safety Technical Advisor, COS Program Management Section, Operational Safety Branch, FAA, 3960 Paramount Boulevard, Lakewood, CA 90712-4137; phone: 817-222-5390; email: operationalsafety@faa.gov.

(m) Material Incorporated by Reference

None.

Issued on June 9, 2023.
Michael Linegang,
Acting Director, Compliance & Airworthiness Division, Aircraft Certification Service.

[FR Doc. 2023-13154 Filed 6-16-23; 11:15 am]

BILLING CODE 4910-13-C